DEPARTMENT OF COMMERCE

International Trade Administration

[A-122-855]

Polyethylene Terephthalate Resin From Canada: Notice of Rescission of Antidumping Duty Administrative Review; 2017-2018

AGENCY: Enforcement and Compliance, International Trade Administration, Department of Commerce.

SUMMARY: The Department of Commerce (Commerce) is rescinding its administrative review of polyethylene terephthalate resin from Canada for the period or review (POR) May 1, 2017, through April 30, 2018.

DATES: Applicable September 12, 2018.

FOR FURTHER INFORMATION CONTACT: Karine Gziryan, AD/CVD Operations, Office IV, Enforcement and Compliance, International Trade Administration, U.S. Department of Commerce, 1401 Constitution Avenue NW, Washington, DC 20230; telephone: (202) 482-4081.

SUPPLEMENTARY INFORMATION:

Background

On May 1, 2018, Commerce published in the Federal Register a notice of “Opportunity to Request Administrative Review” of the antidumping duty order on polyethylene terephthalate resin from Canada for the POR.¹ On May 31, 2018, in accordance with section 751(a) of the Tariff Act of 1930, as amended (the Act), and 19 CFR 351.213(b), Commerce received a timely request from Compagnie Selenis Canada (Selenis) to conduct an administrative review.²

¹ See Antidumping or Countervailing Duty Order, Finding, or Suspended Investigation; Opportunity to Request Administrative Review, 83 FR 19047 (May 1, 2018).

² See Letter from Selenis, “Administrative Review of the Antidumping Duty Order on Polyethylene Terephthalate Resin from Canada: Request for Review,” dated May 31, 2018.

Pursuant to this request and in accordance with 19 CFR 351.221(c)(1)(i), on July 12, 2018, Commerce published a notice of initiation of an administrative review of the antidumping duty order on polyethylene terephthalate resin from Canada.³ On July 18, 2018, Commerce issued its antidumping duty questionnaire to Selenis. On August 3, 2018, Selenis withdrew its request for an administrative review.⁴

³ See Initiation of Antidumping and Countervailing Duty Administrative Review, 83 FR 32270 (July 12, 2018) (Initiation Notice).

⁴ See Letter from Selenis, “Administrative Review of the Antidumping Duty Order on Polyethylene Terephthalate Resin from Canada: Withdrawal of Request for Review,” dated August 3, 2018.

Rescission of Review

Pursuant to 19 CFR 351.213(d)(1), Commerce will rescind an administrative review if the party that requested the review withdraws its request within 90 days of the publication date of the notice of initiation of the requested review. Selenis withdrew its review request before the 90-day deadline, and no other party requested an administrative review of the antidumping duty order. Therefore, in accordance with 19 CFR 351.213(d)(1), we are rescinding this administrative review in its entirety.

Assessment

Commerce will instruct U.S. Customs and Border Protection (CBP) to assess antidumping duties on all appropriate entries of polyethylene terephthalate resin from Canada. Antidumping duties shall be assessed at rates equal to the cash deposit of estimated antidumping duties required at the time of entry, or withdrawal from warehouse, for consumption, during the period May 1, 2017, through April 30, 2018, in accordance with 19 CFR 351.212(c)(1)(i). Commerce intends to issue appropriate assessment instructions to CBP 41 days after the date of publication of this notice in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as a reminder to parties subject to administrative protective orders (APO) of their responsibility concerning the disposition of proprietary information disclosed under APO in accordance with 19 CFR 351.305. Timely written notification of the return/destruction of APO materials or conversion to judicial protective order is hereby requested. Failure to comply with the regulations and terms of an APO is a violation which is subject to sanction.

This notice is published in accordance with section 751(a)(1) and 777(i)(1) of the Act, and 19 CFR 351.213(d)(4).

Dated: September 6, 2018.
James Maeder,
Associate Deputy Assistant Secretary for Antidumping and Countervailing Duty Operations performing the duties of Deputy Assistant Secretary for Antidumping and Countervailing Duty Operations.

[FR Doc. 2018-19831 Filed 9-11-18; 8:45 am]

BILLING CODE 3510-DS-P